DEPARTMENT OF THE INTERIOR

National Park Service

[NPS-WASO-NRNHL-DTS#-38683; PPWOCRADI0, PCU00RP14.R50000]

National Register of Historic Places; Notification of Pending Nominations and Related Actions

AGENCY: National Park Service, Interior.

ACTION: Notice.

SUMMARY: The National Park Service is soliciting electronic comments on the significance of properties nominated before August 24, 2024, for listing or related actions in the National Register of Historic Places.

DATES: Comments should be submitted electronically by September 25, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 24, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

ARIZONA

Maricopa County

Hayden Flour Mill, 119 S Mill Avenue, Tempe, SG100010872

ARKANSAS

Hempstead County

Saint Paul Methodist Church Cemetery. Historic Section, 6517 US Highway 278, Ozan, SG100010871

CALIFORNIA

El Dorado County

Zentgraf, Jacob, House, 2441 Deer Valley Road, Rescue, SG100010882

Los Angeles County, Capitol Tower, 1750 N Vine Street, Los Angeles, SG100010883

MISSOURI

St. Louis INDEPENDENT CITY

Heritage House, 2800 Olive Street, St. Louis, SG100010879

NEW HAMPSHIRE

Cheshire County

Keene Unitarian Universalist Church, 69 Washington St., Keene, SG100010873

OHIO

Highland County

Gist Settlement Historic District, Roughly bounded by Rollins Ln., Gist Settlement Rd., and Turner Ln., New Vienna, SG100010878

Authority: Section 60.13 of 36 CFR part 60.

Sherry A. Frear,
Chief, National Register of Historic Places/National Historic Landmarks Program.

[FR Doc. 2024-20351 Filed 9-9-24; 8:45 am]

BILLING CODE 4312-52-P